NUCLEAR REGULATORY COMMISSION

10 CFR Part 50

[NRC-2011-0087]

RIN 3150-AI96

Non-Power Reactor License Renewal

AGENCY: Nuclear Regulatory Commission.

ACTION: Final regulatory basis; availability of rulemaking documents.

SUMMARY: The U.S. Nuclear Regulatory Commission (NRC or the Commission) is publishing the final regulatory basis for rulemaking to streamline non-power reactor license renewal. This final regulatory basis incorporates input from the public, licensees, certificate holders, and other stakeholders provided during the public comment period that ended July 31, 2012. This regulatory basis provides the technical basis to support proceeding with rulemaking to streamline and enhance the Research and Test Reactor (RTR) License Renewal Process. This contemplated rulemaking also recommends conforming changes to address technical issues in existing non-power reactor regulations. The NRC has developed a final technical basis for this proposed rulemaking that describes the agency's overall objectives, conceptual approaches, potential solutions, integration with agency strategic goals, and related technical and regulatory clarity issues.

SUPPLEMENTARY INFORMATION:

I. Accessing Information

Please refer to Docket ID NRC-2011-0087 when contacting the NRC about the availability of information regarding this document. You may access information related to this document by any of the following methods:

• Federal Rulemaking Web site: Go to http://www.regulations.gov and search for Docket ID NRC-2011-0087.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

II. Background

The Commission provided direction presented in the Staff Requirements Memorandum, SECY-08-0161 (ADAMS Accession No. ML082550140) that directed the staff to develop and submit a long-term plan for an enhanced RTR license renewal process for Commission review. “The plan should include, but not be limited to, developing a basis for redefining the scope of the process, as well as a recommendation regarding the need for rulemaking and guidance development. The staff should submit to the Commission a resource request, including staffing and contract funding needs, to formalize the review process changes and establish a stable and predictable regulatory regime for RTRs. This long term plan should consider elements of the generic analysis approach, generic siting analysis, and the extended license term * * *.”

III. Public Comments on Draft Regulatory Basis

The NRC published a draft regulatory basis on June 29, 2012 (77 FR 38742), for comment from the public, licensees, certificate holders, and other stakeholders. The public comment period that ended July 31, 2012. The NRC received two comment letters: one from the University of Florida and one from the National Institute of Standards and Technology, in electronic form via the Regulations.gov Web site. Most of the comments focused on the three main elements; ensuring minimum regulation, need for objective evidence, and general support or opposition to options proposed in the regulatory basis. The NRC staff reviewed and considered the comments in updating the draft regulatory basis to a final regulatory basis. A listing of the comments and the NRC's comment responses are provided in ADAMS under Accession No. ML12240A676. The final regulatory basis provides the technical basis to support proceeding with rulemaking to streamline and enhance the Research and Test Reactor License Renewal Process. The final regulatory basis is provided in ADAMS under Accession No. ML12240A677.

FOR FURTHER INFORMATION CONTACT: Duane Hardesty, Project Manager, Research and Test Reactors Licensing Branch, Division of Policy and Rulemaking, Office of Nuclear Reactor Regulation, U.S. Nuclear Regulatory Commission, Washington, DC 20555-0001, telephone: 301-415-3724; email: Duane.Hardesty@nrc.gov.

The NRC is issuing this notice for the availability of the final regulatory basis to streamline non-power reactor license renewal.

Dated at Rockville, Maryland, this 19th day of September 2012.
For the Nuclear Regulatory Commission,
Linh N. Tran,
Acting Chief, Research and Test Reactors Licensing Branch, Division of Policy and Rulemaking, Office of Nuclear Reactor Regulation.

[FR Doc. 2012-24221 Filed 10-1-12; 8:45 am]

BILLING CODE 7590-01-P